Title 3—

The President

Executive Order 13156 of May 17, 2000

Amendment to Executive Order 12871 Regarding the

National Partnership Council

By the authority vested in me as President by the Constitution and the laws of the United States of America, and in order to provide for a uniform policy for the Federal Government relating to labor-management partnerships, it is hereby ordered that Executive Order 12871, as amended by Executive Order 12983, is further amended as follows:

Section 1. Section 1(a)(10) of the order is amended by striking “two” and inserting “three.”

wj

THE WHITE HOUSE,

May 17, 2000.

[FR Doc. 00-12840

Filed 5-18-00; 8:45 am]

Billing code 3195-01-P